FEDERAL MARITIME COMMISSION

Sunshine Act Meeting

Agency Holding the Meeting: Federal Maritime Commission.

Time and Date: 10 a.m.—April 12, 2006.

Place: 800 North Capitol Street, NW., First Floor Hearing Room, Washington, DC.

Status: Closed.

Matters to be Considered: 1. Docket No. 02-04—Anchor Shipping Co. v. Alianca Navegacao E Logistica Ltda.

CONTACT PERSON FOR MORE INFORMATION: Bryant L. VanBrakle, Secretary, (202) 523-5725.

[FR Doc. 06-3394 Filed 4-5-06; 12:10 pm]

BILLING CODE 6730-01-M